DEPARTMENT OF ENERGY

Federal Energy Regulatory Commission

Notice of Intent to File Application for a New License

February 14, 2001.

Take notice that the following notice of intent has been filed with the Commission and is available for public inspection:

a. Type of filing: Notice of Intent to File an Application for New License.

b. Project No: 2213.

c. Date filed: November 28, 2000.

d. Submitted By: Public Utility District No. 1 of Cowlitz County, Washington.

e. Name of Project: Swift Project No. 2.

f. Location: In Cowlitz and Skamania Counties on the North Fork Lewis River in Southeast Washington State. The project lies between the FERC licensed Swift No. 1 and Yale Projects.

g. Filed Pursuant to: Section 15 of the Federal Power Act, 18 CFR 16.6.

h. Pursuant to section 16.19 of the Commission's regulations, the licensee is required to make available the information described in section 16.7 of the regulations. Such information is available from the licensee at Public Utility District No. 1 of Cowlitz County, 961 12th Ave, P.O. Box 3007, Longview, Washington 98632. Contact Diana MacDonald at 360-577-7585 or www. cowlitzpud.org.

i. FERC Contact: Vince Yearick 202 219-3073 vince.yearick@ferc.fed.us.

j. Expiration Date of Current License: April 30, 2006.

k. Project Description: The project consist of a 3.2 mile power canal, an ungated spillway and discharge channel, two penstocks, a powerhouse containing two Francis type turbines each rated at 35,000 kw, a 0.9 mile 230kv transmission line, and appurtenant facilities.

l. The licensee states its unequivocal intent to submit an application for a new license for Project No. 2213. Pursuant to 18 CFR 16.9(b)(1) each application for a new license and any competing license applications must be filed with the Commission at least 24 months prior to the expiration of the existing license. All applications for license for this project must be filed by April 30, 2004.

A copy of the notice of intent is available for inspection and reproduction at the Commission's Public Reference Room, located at 888 First Street, NE., Room 2A, Washington, DC 20426, or by calling (202) 208-1371. The notice may be viewed on http://www.ferc.fed.us/online/rims.htm (call (202) 208-2222 for assistance). A copy is also available for inspection and reproduction at the address in item h above.

Linwood A. Watson, Jr.,
Acting Secretary.

[FR Doc. 01-4205 Filed 2-20-01; 8:45 am]

BILLING CODE 6717-01-M